DEPARTMENT OF HOMELAND SECURITY

Coast Guard

33 CFR Part 117

[Docket No. USCG-2010-0089]

Drawbridge Operation Regulation; Inner Harbor Navigational Canal, New Orleans, LA

AGENCY: Coast Guard, DHS.

ACTION: Notice of temporary deviation from regulations.

SUMMARY: The Commander, Eighth Coast Guard District, has issued a temporary deviation from the regulation governing the operation of the SR 46 (Judge Seeber/Claiborne Avenue) Vertical Lift Bridge across the Inner Harbor Navigational Canal, mile 0.9, (GIWW mile 6.7 EHL), at New Orleans, LA. The deviation is necessary to replace the counterweight wire ropes on the bridge. This deviation allows the bridge to remain closed for two (2) 120-hour time periods within a three week period.

DATES: This deviation is effective from 6 a.m. on Monday, March 15, 2010 until 6 a.m. on Monday, April 5, 2010.

ADDRESSES: Documents mentioned in this preamble as being available in the docket are part of docket USCG-2010-0089 and are available online by going to http://www.regulations.gov, inserting USCG-2009-1129 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail David Frank, Bridge Administration Branch; telephone 504-671-2128, e-mail David.m.frank@uscg.mil. If you have questions on viewing the docket, call Renee V. Wright, Program Manager, Docket Operations, telephone 202-366-9826.

SUPPLEMENTARY INFORMATION: The Claiborne Avenue bridge has a vertical clearance of 40 feet above mean high water in the closed-to-navigation position and 156 feet above mean high water in the open-to-navigation position. Currently, according to 33 CFR 117.458(a), the draw of the bridge shall open on signal; except that, from 6:30 a.m. to 8:30 a.m. and 3:30 p.m. to 5:45 p.m. Monday through Friday, the draw need not be open for the passage of vessels. This deviation allows the draw span of the bridge to remain closed to navigation for two (2) 120-hour periods within a three week time frame between March 15, 2010 and April 4, 2010. The exact dates of the closures will be determined at a later date to allow for deep draft vessel movements either just prior or between the closure periods. Exact times and dates of the closures will be published in the Local Notice to Mariners and broadcast via the Coast Guard Broad Notice to Mariners system.

Navigation on the waterway consists mainly of tugs with tows and ships. As a result of coordination between the Coast Guard and the waterway users, it has been determined that this closure has been coordinated to minimize the possibility of any significant effects on these vessels. There are no alternate routes available to vessel traffic; however, vessels that can pass under the bridge in the closed-to-navigation position can do so at any time. The bridge will not be able to open for emergencies.

In accordance with 33 CFR 117.35(e), the drawbridge must return to its regular operating schedule immediately at the end of the designated time period. This deviation from the operating regulations is authorized under 33 CFR 117.35.

Dated: February 10, 2010.
David M. Frank,
Bridge Administrator.

[FR Doc. 2010-3813 Filed 2-24-10; 8:45 am]

BILLING CODE 9110-04-P